NATIONAL CREDIT UNION ADMINISTRATION

Notice of Meetings

TIME AND DATE: 10:00 a.m., Thursday, January 18, 2001

PLACE: Board Room, 7th Floor, Room 7047, 1775 Duke Street, Alexandria, VA 22314-3428

STATUS: Open.

MATTTERS TO BE CONSIDERED: 1. Request from a Federal Credit Union to Convert to a Community Charter.

2. Washington Member Business Loan Rule.

3. Request from a Corporate Credit Union for a Waiver under Part 704, NCUA's Rules and Regulations.

4. Final Rule: Amendments to Part 748, NCUA's Rules and Regulations, Guidelines for Safeguarding Member Information.

RECESS: 11:15 a.m.

TIME AND DATE: 11:30 a.m., Thursday, January 18, 2001

PLACE: Board Room, 7th Floor, Room 7047, 1775 Duke Street, Alexandria, VA 22314-3428

STATUS: Closed.

MATTER TO BE CONSIDERED: 1. One (1) Personnel Matter. Closed pursuant to exemptions (2) and (6).

FOR FURTHER INFORMATION CONTACT: Becky Baker, Secretary of the Board, Telephone 703-518-6304.

Becky Baker,
Secretary of the Board.

[FR Doc. 01-1414 Filed 1-11-01; 4:58 pm]

BILLING CODE 7535-01-M